FEDERAL COMMUNICATIONS COMMISSION

Notice of Public Information Collection(s) Being Reviewed by the Federal Communications Commission

February 15, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 28, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0823.

Title: Pay Telephone Reclassification, Memorandum Opinion and Order, CC Docket No. 96-128.

Form No.: N/A.

Type of Review: Extension of a currently approved collection.

Respondents: Business or other for-profit.

Number of Respondents: 400.

Estimated Time Per Response: 2-35 hours.

Frequency of Response: Recordkeeping requirement, third party disclosure requirement, and on occasion, monthly, and quarterly reporting requirements.

Total Annual Burden: 44,700 hours.

Total Annual Cost: $480,000.

Privacy Act Impact Assessment: No.

Needs and Uses: The Commission is seeking extension (no change in requirements) for this information collection. The Commission is submitting this information collection to the OMB in order to obtain the full three-year clearance from them. For background, the Commission adopted and released a Memorandum Opinion and Order in March 1998, which clarified the requirements established in the Payphones Orders for the provision of payphone-specific coding digits and for tariffs that local exchange carriers (LECs) must file pursuant to the Payphone Orders. The Commission also granted a waiver of Part 69 of the Commission's rules so that LECs can establish rate elements to recover the costs of implementing FLEX-ANI (a type of switch software) to provide payphone specific coding digits for per-call compensation. The Commission is required in the Payphone Orders to implement section 276 of the Act.

OMB Control No.: 3060-0986.

Title: Competitive Carrier Line Count Report.

Form No.: FCC Form 525.

Type of Review: Revision of a currently approved collection.

Respondents: Business or other for-profit.

Number of Respondents: 1,300 respondents; 4,753 responses.

Estimated Time Per Response: .5-6 hours.

Frequency of Response: On occasion, quarterly and annual reporting requirements and third party disclosure requirement.

Total Annual Burden: 3,707 hours.

Total Annual Cost: N/A.

Privacy Act Impact Assessment: N/A.

Needs and Uses: The Commission has revised this information collection. The information collection has been revised as a result of: (1) Certain collections associated with the election of a disaggregation path were one-time in nature and have been eliminated and removed from this burden estimate; and (2) the Commission has created a new FCC Form 525 to collect line count data required by Competitive Eligible Telecommunications Carriers (CETCs) pursuant to this and other OMB control numbers, as well as line count data related to lines provided by CETCs using unbundled network elements (UNEs). The UNE data are necessary for Universal Service Administrative Company (USAC) to implement section 54.307 of the Commission's rules. It is anticipated that the implementation of FCC Form 525 will reduce burdens in several collections by standardizing the information submission format. As collections 3060-0972, 3060-0774 and 3060-0942 are renewed, the information provided in FCC Form 525 will be eliminated from the burden estimates for these collections. The Commission will use the information requirements to determine whether and to what extent rural telecommunications carriers providing the data are eligible to receive universal service support.

OMB Control No.: 3060-0298.

Title: Competitive Carrier Line Count Report.

Form No.: FCC Form 525.

Type of Review: Revision of a currently approved collection.

Respondents: Business or other for-profit.

Number of Respondents: 1,300 respondents; 4,753 responses.

Estimated Time Per Response: 57 hours.

Frequency of Response: On occasion and annual reporting requirements.

Total Annual Burden: 66,120 hours.

Total Annual Cost: N/A.

Privacy Act Impact Assessment: N/A.

Needs and Uses: The Commission is seeking extension (no change) to this information collection. The Commission is submitting this information collection to the OMB in order to obtain the full three-year clearance.

Part 61 of the Commission's rules establishes procedures for filing tariffs which contain the charges, practices, and regulations of the common carriers, supporting economic data and other related documents. The supporting data must conform to other parts of the Rules such as Parts 36 and 69. Part 61 also prescribes the framework for the initial establishment of and subsequent revisions to tariffs. Tariffs that do not conform to Part 61 may be required to post their schedules or rates and regulations. The information collected through a carrier's tariff is used by the Commission to determine whether services offered are just and reasonable as the Act requires.

The tariffs and any supporting documentation are examined in order to determine if the services are offered in a just and reasonable manner.

Federal Communications Commission.
Marlene H. Dortch,
Secretary.

[FR Doc. 05-3513 Filed 2-23-05; 8:45 am]

BILLING CODE 6712-01-P